DEPARTMENT OF COMMERCE

International Trade Administration

[A-533-924, C-533-925]

Melamine From India: Antidumping and Countervailing Duty Orders

AGENCY: Enforcement and Compliance, International Trade Administration, Department of Commerce.

SUMMARY: Based on affirmative final determinations by the U.S. Department of Commerce (Commerce) and the U.S. International Trade Commission (ITC), Commerce is issuing antidumping duty (AD) and countervailing duty (CVD) orders on melamine from India.

DATES: Applicable April 9, 2025.

FOR FURTHER INFORMATION CONTACT: Myrna Lobo (AD) or Paul Kebker (CVD), AD/CVD Operations, Offices VII and IV, Enforcement and Compliance, International Trade Administration, U.S. Department of Commerce, 1401 Constitution Avenue NW, Washington, DC 20230; telephone: (202) 482-2371 and (202) 482-2254, respectively.

SUPPLEMENTARY INFORMATION:

Background

In accordance with sections 705(d), 735(d), and 777(i) of the Tariff Act of 1930, as amended (the Act), on February 12, 2025, Commerce published its affirmative final determination of sales at less than fair value (LTFV) from India and its affirmative final determination that countervailable subsidies are being provided to producers and exporters of melamine from India.¹ As part of these determinations, Commerce made affirmative critical circumstances findings for Gujarat State Fertilizers and Chemicals Limited (GSFC) in the LTFV investigation and for GSFC and the all other producers and/or exporters in the CVD investigation.

¹ See Melamine from India: Final Affirmative Countervailing Duty Determination and Critical Circumstances Determination, 90 FR 9413 (February 12, 2025) (AD Final Determination); see also Melamine from India: Final Affirmative Determination of Sales at Less Than Fair Value and Affirmative Determination of Critical Circumstances, In Part, 90 FR 9415 (February 12, 2025) (CVD Final Determination).

On March 31, 2025, the ITC notified Commerce of its affirmative final determination that an industry in the United States is materially injured within the meaning of section 705(b)(1)(A)(i) of the Act.² Further, the ITC determined that critical circumstances do not exist with respect to imports of melamine from India.³

² See ITC's Letter, “Notification of ITC Final Determinations,” dated March 31, 2025.

³ Id.

Scope of the Orders

The products covered by these orders are melamine from India. For a complete description of the scope of the orders, see the appendix to this notice.

Antidumping Duty Order

On March 31, 2025, in accordance with section 735(d) of the Act, the ITC notified Commerce of its final determination that an industry in the United States is materially injured within the meaning of section 735(b)(1)(A)(i) of the Act by reason of imports of melamine that are sold in the United States at less than fair value. Therefore, in accordance with sections 735(c)(2) and 736 of the Act, Commerce is issuing this AD order. Because the ITC determined that imports of melamine from India are materially injuring a U.S. industry, unliquidated entries of such merchandise from India, entered or withdrawn from warehouse for consumption, are subject to the assessment of antidumping duties.

Therefore, in accordance with section 736(a)(1) of the Act, Commerce will direct U.S. Customs and Border Protection (CBP) to assess, upon further instruction by Commerce, antidumping duties equal to the amount by which the normal value of the merchandise exceeds the export price (or constructed export price) of the merchandise, for all relevant entries of melamine from India. Antidumping duties will be assessed on unliquidated entries of melamine from India entered, or withdrawn from warehouse, for consumption on or after September 24, 2024, the date of publication of the AD Preliminary Determination but will not include entries occurring after the expiration of the provisional measures period and before publication of the ITC's final injury determination, as further described below.⁴

⁴ See Melamine from India: Preliminary Affirmative Determination of Sales at Less Than Fair Value and Affirmative Determination of Critical Circumstances, in Part, 89 FR 77832 (September 24, 2024) (AD Preliminary Determination).

Critical Circumstances—AD

With respect to the ITC's negative critical circumstances determination on imports of melamine from India, we will instruct CBP to lift the suspension of liquidation and to refund all cash deposits for estimated antidumping duties with respect to entries of the subject merchandise entered, or withdrawn from warehouse, for consumption on or after June 26, 2024 (i.e., 90 days prior to the date of the publication of the AD Preliminary Determination), but before September 24, 2024, the date of publication of the AD Preliminary Determination.

Suspension of Liquidation and Cash Deposits—AD

Commerce intends to instruct CBP to reinstitute the suspension of liquidation of melamine from India, effective on the date of publication of the ITC Final Determination in the Federal Register, and to assess, upon further instruction by Commerce, antidumping duties on each entry of subject merchandise based on the estimated weighted-average dumping margins indicated in the table below. These instructions suspending liquidation will remain in effect until further notice. Commerce also intends to instruct CBP to require cash deposits equal to the estimated weighted-average dumping margins indicated in the table below. Accordingly, effective on the date of publication in the Federal Register of the notice of the ITC's final affirmative injury determination, CBP will require, at the same time as importers would normally deposit estimated customs duties on this subject merchandise, a cash deposit equal to the rates listed in the table below. The all-others rate applies to all producers and exporters not specifically listed below, as appropriate.

Estimated Weighted-Average Dumping Margins

The estimated weighted-average dumping margins are as follows:

Exporter or producer | Weighted-average dumping margin (percent) | Cash deposit rate (adjusted for subsidy offset(s)) (percent) ⁵
Gujarat State Fertilizers and Chemicals Limited | * 632.74 | 626.27
All Others | 513.28 | 506.81
* Rate based on facts available with adverse inferences.

Provisional Measures—AD

Section 733(d) of the Act states that suspension of liquidation pursuant to an affirmative preliminary determination may not remain in effect for more than four months, except where exporters representing a significant proportion of exports of the subject merchandise request that Commerce extend the four-month period to no more than six months. Commerce published the AD Preliminary Determination on September 24, 2024. On October 23, 2024, Commerce extended the provisional measures from a four-month period to a period of not more than six months.⁶

⁵ Adjusted for export subsidies of 6.47 percent (comprised of 2.69 percent for the RoDTEP program and 3.78 percent for the DDB program) for GSFC and all others. See CVD Final Determination.

⁶ See Melamine from India: Postponement of Final Determination of Sales at Less Than Fair Value Investigation, 89 FR 84533 (October 23, 2024).

The provisional measures period, beginning on the date of publication of the AD Preliminary Determination, ended on March 22, 2025. Therefore, in accordance with section 733(d) of the Act, Commerce intends to instruct CBP to terminate the suspension of liquidation and to liquidate, without regard to antidumping duties, unliquidated entries of melamine from India entered, or withdrawn from warehouse, for consumption on or after March 23, 2025, the first day provisional measures were no longer in effect, until and through the day preceding the date of publication of the ITC Final Determination. Suspension of liquidation and the collection of cash deposits will resume on the date of publication of the ITC Final Determination in the Federal Register.

Countervailing Duty Order

As stated above, based on the above-referenced affirmative determination by the ITC that an industry in the United States is materially injured within the meaning of section 705(b)(1)(A)(i) of the Act, by reason of subsidized imports of melamine from India, in accordance with sections 705(c)(2) and 706 of the Act, Commerce is issuing this CVD order. Because the ITC determined that imports of melamine from India are materially injuring a U.S. industry, unliquidated entries of such merchandise entered, or withdrawn from warehouse, for consumption, are subject to the assessment of countervailing duties.

Therefore, in accordance with section 706(a) of the Act, Commerce will direct CBP to assess, upon further instruction by Commerce, countervailing duties on all relevant entries of melamine from India, which are entered, or withdrawn from warehouse, for consumption on or after July 22, 2024, the date of the publication of the CVD Preliminary Determination,⁷ but will not include entries occurring after the expiration of the provisional measures and before the publication in the Federal Register of the ITC's final injury determination under section 705(b) of the Act, as further described in the “Provisional Measures—CVD” section of this notice.

⁷ See Melamine from India: Preliminary Affirmative Countervailing Duty Determination, Preliminary Affirmative Critical Circumstances Determination, and Alignment of Final Determination With the Final Antidumping Duty Determination, 89 FR 59055 (July 22, 2024) (CVD Preliminary Determination).

Critical Circumstances—CVD

With respect to the ITC's negative critical circumstances determination on imports of melamine from India, we will instruct CBP to lift the suspension of liquidation and to refund all cash deposits for estimated countervailing duties with respect to entries of the subject merchandise entered, or withdrawn from warehouse, for consumption on or after April 23, 2024 (i.e., 90 days prior to the date of the publication of the CVD Preliminary Determination), but before July 22, 2024, the date of publication of the CVD Preliminary Determination.

Suspension of Liquidation and Cash Deposits—CVD

In accordance with section 706 of the Act, Commerce intends to instruct CBP to reinstitute the suspension of liquidation of melamine from India, effective on the date of publication of the ITC's final affirmative injury determination in the Federal Register, and to assess, upon further instruction by Commerce, countervailing duties on each entry of subject merchandise in an amount based on the net countervailable subsidy rates below. These instructions suspending liquidation will remain in effect until further notice.

Commerce also intends, pursuant to section 706(a)(1) of the Act, to instruct CBP to require cash deposits equal to the amounts as indicated below. Accordingly, effective on the date of publication of the ITC's final affirmative injury determination in the Federal Register, CBP will require, at the same time as importers would normally deposit estimated customs duties on the subject merchandise, a cash deposit for each entry of subject merchandise equal to the subsidy rates listed below.⁸ The all-others rate applies to all producers and exporters not specifically listed below, as appropriate.

⁸ See section 706(a)(3) of the Act.

Estimated CVD Subsidy Rates

The estimated CVD subsidy rates as published in Commerce's CVD Final Determination are as follows:

Exporter/producer | Subsidy rate (percent ad valorem)
Gujarat State Fertilizers and Chemicals Limited | * 276.06
All Others | 276.06
* Rate based on facts available with adverse inferences.

Provisional Measures—CVD

Section 703(d) of the Act states that the suspension of liquidation pursuant to an affirmative preliminary determination may not remain in effect for more than four months. Commerce published the CVD Preliminary Determination on July 22, 2024.⁹ As such, the four-month period beginning on the date of the publication of the CVD Preliminary Determination ended on November 18, 2024.

⁹ See CVD Preliminary Determination.

Therefore, in accordance with section 703(d) of the Act, Commerce instructed CBP to terminate the suspension of liquidation and to liquidate, without regard to countervailing duties, unliquidated entries of melamine from India entered, or withdrawn from warehouse, for consumption, on or after November 19, 2024, the first day provisional measures were no longer in effect, until and through the day preceding the date of publication of the ITC Final Determination. Suspension of liquidation and the collection of cash deposits will resume on the date of publication of the ITC Final Determination in the Federal Register.

Establishment of the Annual Inquiry Service Lists

On September 20, 2021, Commerce published the Final Rule in the Federal Register.¹⁰ On September 27, 2021, Commerce also published the Procedural Guidance in the Federal Register.¹¹ The Final Rule and Procedural Guidance provide that Commerce will maintain an annual inquiry service list for each order or suspended investigation, and any interested party submitting a scope ruling application or request for circumvention inquiry shall serve a copy of the application or request on the persons on the annual inquiry service list for that order, as well as any companion order covering the same merchandise from the same country of origin.

¹⁰ See Regulations to Improve Administration and Enforcement of Antidumping and Countervailing Duty Laws, 86 FR 52300 (September 20, 2021) (Final Rule).

¹¹ See Scope Ruling Application; Annual Inquiry Service List; and Informational Sessions, 86 FR 53205 (September 27, 2021) (Procedural Guidance).

In accordance with the Procedural Guidance, for orders published in the Federal Register after November 4, 2021, Commerce will create an annual inquiry service list segment in Commerce's online e-filing and document management system, Antidumping and Countervailing Duty Electronic Service System (ACCESS), available at https://access.trade.gov, within five business days of publication of the order. Each annual inquiry service list will be saved in ACCESS, under each case number, and under a specific segment type called “AISL-Annual Inquiry Service List.” ¹²

¹² This segment will be combined with the ACCESS Segment Specific Information (SSI) field which will display the month in which the notice of the order or suspended investigation was published in the Federal Register, also known as the anniversary month. For example, for an order under case number A-000-000 that was published in the Federal Register in January, the relevant segment and SSI combination will appear in ACCESS as “AISL-January Anniversary.” Note that there will be only one annual inquiry service list segment per case number, and the anniversary month will be pre-populated in ACCESS.

Interested parties who wish to be added to the annual inquiry service list for an order must submit an entry of appearance to the annual inquiry service list segment for the order in ACCESS within 30 days after the date of publication of the order. For ease of administration, Commerce requests that law firms with more than one attorney representing interested parties in an order designate a lead attorney to be included on the annual inquiry service list. Commerce will finalize the annual inquiry service list within five business days thereafter. As mentioned in the Procedural Guidance,¹³ the new annual inquiry service list will be in place until the following year, when the Opportunity Notice for the anniversary month of the order is published.

¹³ See Procedural Guidance, 86 FR at 53206.

Commerce may update an annual inquiry service list at any time as needed based on interested parties' amendments to their entries of appearance to remove or otherwise modify their list of members and representatives, or to update contact information. Any changes or announcements pertaining to these procedures will be posted to the ACCESS website.

Special Instructions for Petitioners and Foreign Governments

In the Final Rule, Commerce stated that, “after an initial request and placement on the annual inquiry service list, both petitioners and foreign governments will automatically be placed on the annual inquiry service list in the years that follow.” ¹⁴ Accordingly, as stated above, the petitioner and the Government of India should submit their initial entries of appearance after publication of this notice in order to appear in the first annual inquiry service lists for those orders for which they qualify as an interested party. Pursuant to 19 CFR 351.225(n)(3), the petitioner and the Government of India will not need to resubmit their entries of appearance each year to continue to be included on the annual inquiry service list. However, the petitioner and the Government of India are responsible for making amendments to their entries of appearance during the annual update to the annual inquiry service list in accordance with the procedures described above.

¹⁴ See Final Rule, 86 FR at 52335.

Notification to Interested Parties

This notice constitutes the AD and CVD orders with respect to melamine from India, pursuant to sections 736(a) and 706(a) of the Act. Interested parties can find a list of AD and CVD orders currently in effect at https://enforcement.trade.gov/stats/iastats1.html.

These orders are issued and published in accordance with sections 736(a) and 706(a) of the Act, and 19 CFR 351.211(b).

Dated: April 3, 2025.
Christopher Abbott,
Deputy Assistant Secretary for Policy and Negotiations, performing the non-exclusive functions and duties of the Assistant Secretary for Enforcement and Compliance.

Appendix

Scope of the Orders

The merchandise subject to these orders is melamine (Chemical Abstracts Service (CAS) registry number 108-78-01, molecular formula C3 H6 N6). Melamine is also known as 2,4,6- triamino-s-triazine; 1,3,5-Triazine-2,4,6- triamine; Cyanurotriamide; Cyanurotriamine; Cyanuramide; and by various brand names. Melamine is a crystalline powder or granule. All melamine is covered by the scope of these orders irrespective of purity, particle size, or physical form. Melamine that has been blended with other products is included within this scope when such blends include constituent parts that have been intermingled, but that have not been chemically reacted with each other to produce a different product. For such blends, only the melamine component of the mixture is covered by the scope of these orders. Melamine that is otherwise subject to these orders is not excluded when commingled with melamine from sources not subject to these orders. Only the subject component of such commingled products is covered by the scope of these orders.

The subject merchandise is provided for in subheading 2933.61.0000 of the Harmonized Tariff Schedule of the United States (HTSUS). Although the HTSUS subheading and CAS registry number are provided for convenience and customs purposes, the written description of the scope is dispositive.

[FR Doc. 2025-06100 Filed 4-8-25; 8:45 am]

BILLING CODE 3510-DS-P